DEPARTMENT OF ENERGY

Federal Energy Regulatory Commission

[Docket No. EC05-18-000, et al.]

National Energy & Transmission, Inc., et al.; Electric Rate and Corporate Filings

November 16, 2004.

The following filings have been made with the Commission. The filings are listed in ascending order within each docket classification.

1. National Energy & Gas Transmission, Inc.

[Docket No. EC05-18-000]

Take notice that on November 12, 2004, National Energy & Gas Transmission, Inc. (NEGT) filed an application pursuant to section 203 of the Federal Power Act for authorization to transfer in excess of 5 percent of the new NEGT common stock to Avenue Capital Group, which is a creditor of NEGT, in connection with NEGT's plan of reorganization approved by the United States Bankruptcy Court for the District of Maryland (Greenbelt Division) as more fully described in the Application.

Comment Date: 5 p.m. eastern time on December 3, 2004.

2. Southern California Water Company

[Docket No. EL02-129-003]

Take notice that on November 15, 2004, Southern California Water Company (SCWC) tendered for filing a refund report pursuant to the Commission's Order issued November 1, 2004, Southern California Water Company, 109 FERC ¶ 61, 121 (2004).

Comment Date: 5 p.m. eastern time on December 6, 2004.

3. CL Power Sales One, L.L.C., CL Power Sales Two, L.L.C., CL Power Sales Seven, L.L.C., CL Power Sales Eight, L.L.C., CL Power Sales Ten, L.L.C.

[Docket Nos. ER95-892-056 and ER96-2652-050]

Take notice that on November 9, 2004, Edison Mission Marketing & Trading, Inc. (EMMT), on behalf of its public utility affiliates listed above (CPS Entities), submitted their triennial market power analysis as required by Acadia Power Partners, LLC, 107 FERC ¶ 61,168 (2004). EMMT also filed an amendment to the CPS Entities' market-based rate tariffs to incorporate the Market Behavior Rules adopted by the Commission in Investigation of Terms and Conditions of Public Utility Market-Based Rate Authorizations, 105 FERC ¶ 61,218 (2003).

EMMT states that copies of the filing were served on parties on the official service list in the above-captioned proceeding.

Comment Date: 5 p.m. eastern time on November 30, 2004.

4. Central Vermont Public Service Corporation

[Docket No. ER98-2329-004]

Take notice that on November 9, 2004, Central Vermont Public Service Corporation (Central Vermont) tendered for filing tariff sheets that modify its market-based rate tariff to add the Market Behavior Rules adopted by the Commission in Investigation of Terms and Conditions of Public Utility Market-Based Rate Authorizations, 105 FERC ¶ 61,218 (2003). Central Vermont requests an effective date of December 17, 2003.

Central Vermont states that a copy of the filing was served upon all parties to the Commission's official service lists in the above-captioned dockets, the Vermont Public Service Board, and the New Hampshire Public Utilities Commission.

Comment Date: 5 p.m. eastern time on November 30, 2004.

5. Hardee Power Partners Limited

[Docket No. ER99-2341-002]

Take notice that on November 9, 2004, Hardee Power Partners Limited (Hardee Power) submitted its triennial market power report) pursuant to Acadia Power Partners LLC, 107 FERC ¶ 61,168 (2004).

Hardee Power states that copies of the filing were served on parties on the official service list in the above-captioned proceeding.

Comment Date: 5 p.m. eastern time on November 30, 2004.

6. Hardee Power Partners Limited

[Docket No. ER99-2341-003]

Take notice that on November 9, 2004, Hardee Power Partners Limited (Hardee Power) submitted revisions to its market-based rate tariff to include the Market Behavior Rules adopted by the Commission in Investigation of Terms and Conditions of Public Utility Market-Based Rate Authorizations, 105 FERC ¶ 61,218 (2003) and to make ministerial changes that reflect that it is no longer affiliated with Tampa Electric Company.

Hardee Power states that copies of the filing were served on parties on the official service list in the above-captioned proceeding.

Comment Date: 5 p.m. eastern time on November 30, 2004.

7. Tampa Electric Company, Panda Gila River, L.P., Union Power Partners, L.P., TECO EnergySource, Inc., Commonwealth Chesapeake Company, L.L.C., TPS Dell, LLC, TPS McAdams, LLC, TECO-PANDA Generating Company, L.P.

[Docket Nos. ER99-2342-003, ER01-931-006, ER01-930-006, ER96-1563-019, ER99-415-005, ER02-510-002, ER02-507-002, and ER02-1000-003]

Take notice that on November 9, 2004, Tampa Electric Company, Panda Gila River, L.P., Union Power Partners, L.P., TECO Energy Source, Inc., Commonwealth Chesapeake Company, L.L.C., (Commonwealth Chesapeake), TPS Dell, LLC, TPS McAdams, LLC, and TECO-PANDA Generating Company, L.P. (collectively, the TECO Group) submitted their joint market power update pursuant to Arcadia Power Partners, LLC, 107 ¶ 61,168 (2004).

The TECO Group states that copies of the filing were served on parties on the official service in the captioned proceedings.

Comment Date: 5 p.m. eastern time on November 30, 2004.

8. PPL Montana, LLC, PPL Colstrip I, LLC , PPL Colstrip II, LLC

[Docket Nos. ER99-3491-003, ER00-2184-001, and ER00-2185-001]

Take notice that on November 9, 2004, PPL Montana, LLC, PPL Colstrip I, LLC, and PPL Colstrip II, LLC (collectively the PPL MT Parties) submitted their triennial market power analysis pursuant to Arcadia Power Partners, LLC, 107 FERC ¶ 61,168 (2004). The PPL MT Parties also submitted revisions to their market-based rate tariffs to incorporate the Market Behavior Rules adopted by the Commission in Investigation of Terms and Conditions of Public Utility Market-Based Rate Authorizations, 105 FERC ¶ 61,218 (2003).

The PPL MT Parties state that copies of the filing were served on parties on the official service list in the above-captioned proceeding.

Comment Date: 5 p.m. eastern time on November 30, 2004.

9. Midwest Generation, LLC, EME Homer City Generation, L.P. Edison Mission Marketing & Trading, Inc., Midwest Generation Energy Services, LLC, CP Power Sales Twelve, L.L.C., CP Power Sales Seventeen, L.L.C., CP Power Sales Nineteen, L.L.C., CP Power Sales Twenty, L.L.C

[Docket Nos. ER99-3693-002, ER99-666-003, ER99-852-007, ER00-30-001, ER99-893-008, ER99-4229-006, ER99-4228-006, and ER99-4231-005]

Take notice that on November 9, 2004, Edison Mission Energy (EME), on behalf of its public utility subsidiaries listed above, filed their updated triennial market power analysis pursuant to Arcadia Power Partners, LLC, 107 FERC ¶ 61,168 (2004). EME also filed on behalf of the above-listed subsidiaries amendments to their respective market-based rate tariffs to incorporate the Market Behavior Rules adopted by the Commission in Investigation of Terms and Conditions of Public Utility Market-Based Rate Authorizations, 105 FERC ¶ 61,218 (2003).

Comment Date: 5 p.m. eastern time on November 30, 2004.

10. Madison Gas and Electric Company

[Docket No. ER00-586-003]

Take notice that on November 9, 2004, Madison Gas and Electric Company (MGE) submitted for filing its updated market analysis pursuant to Acadia Power Partners LLC, 107 FERC ¶ 61,168 (2004).

Comment Date: 5 p.m. eastern time on November 30, 2004.

11. Indianapolis Power & Light Company

[Docket No. ER00-1026-008]

Take notice that on November 9, 2004, Indianapolis Power & Light Company (IPL) tendered for filing its triennial market power update pursuant to the Commission's orders in AEP Power Marketing, Inc., et al., 107 FERC ¶ 61,018 (2004), order on reh'g, 108 FERC ¶ 61,026 (2004), and Acadia Power Partners, LLC, et al., 107 FERC ¶ 61,168 (2004).

IPL states that copies of the filing were served upon the parties designated on the official service list in this docket.

Comment Date: 5 p.m. eastern time on November 30, 2004.

12. Split Rock Energy LLC

[Docket No. ER00-1857-004]

Take notice that on November 9, 2004, Split Rock Energy LLC tendered for filing its triennial market power analysis as required by Acadia Power Partners, LLC, 107 FERC ¶ 61,168 (2004).

Comment Date: 5 p.m. eastern time on November 30, 2004.

13. Sempra Energy Resources, Sempra Energy Solutions

[Docket Nos. ER01-1178-004 and ER00-3444-004]

Take notice that on November 9, 2004, Sempra Energy Resources (Sempra Resources) and Sempra Energy Solutions (Sempra Solutions) tendered for filing a revised triennial market power analysis as required by Acadia Power Partners, LLC, 107 FERC ¶ 61,168 (2004).

Comment Date: 5 p.m. eastern time on November 30, 2004.

14. Mirant Americas Energy Marketing, LP, Mirant California, LLC, Mirant Delta, LLC, Mirant Potrero, LLC, Mirant New England, LLC, Mirant Canal, LLC, Mirant Kendall, LLC, Mirant Bowline, LLC, Mirant Lovett, LLC, Mirant NY-Gen, LLC, Mirant Chalk Point, LLC, Mirant Mid-Atlantic, LLC, Mirant Peaker, LLC, Mirant Potomac River, LLC, Mirant Zeeland, LLC, West Georgia Generating Company, LLC, Mirant Sugar Creek, LLC, Shady Hills Power Company, LLC, Wrighstville Power Facility, LLC, Mirant Energy Trading, LLC, Mirant Oregon, LLC, Mirant Las Vegas, LLC

[Docket Nos. ER01-1265-004, ER01-1267-005, ER01-1270-005, ER01-1278-005, ER01-1274-005, ER01-1268-005, ER01-1271-005, ER01-1266-004, ER01-1272-004, ER01-1275-004, ER01-1269-004, ER01-1273-004, ER01-1276-004, ER01-1277-004, ER01-1263-004, ER02-1052-003, ER02-900-003, ER02-537-004, ER02-1028-003, ER02-1213-003, ER02-1331-004, ER03-160-003]

Take notice that on November 9, 2004, the above-referenced entities tendered for filing a revised market-power analysis in compliance with the Commission's order in Arcadia Power Partners, LLC, 107 FERC ¶ 61,168 (2004).

Comment Date: 5 p.m. eastern time on November 30, 2004.

15. Mirant California, LLC, Mirant Delta, LLC, Mirant Potrero, LLC, Mirant Chalk Point, LLC, Mirant Mid-Atlantic, LLC, Mirant Peaker, LLC, Mirant Potomac River, LLC, Mirant Zeeland, LLC sea

[Docket Nos. ER01-1267-004, ER01-1270-004, ER01-1278-004, ER01-1269-003, ER01-1273-003, ER01-1276-003, ER01-1277-003, ER01-1263-003]

Take notice that on November 9, 2004, the above-referenced entities (collectively, the Mirant Entities) submitted revisions to their respective market-based rate tariffs to incorporate the Market Behavior Rules adopted by the Commission in Investigation of Terms and Conditions of Public Utility Market-Based Rate Authorizations, 105 FERC ¶ 61,218 (2003).

Comment Date: 5 p.m. eastern time on November 30, 2004.

16. Sunrise Power Company, LLC

[Docket No. ER01-2217-003]

Take notice that on November 9, 2004, Sunrise Power Company, LLC (Sunrise) submitted its triennial market power analysis as required by Acadia Power Partners, LLC, 107 FERC ¶ 61,168 (2004). Sunrise also filed an amendment to its market-based rate tariff to incorporate the Market Behavior Rules adopted by the Commission in Investigation of Terms and Conditions of Public Utility Market-Based Rate Authorizations, 105 FERC ¶ 61,218 (2003).

Comment Date: 5 p.m. eastern time on November 30, 2004.

17. ALLETE, Inc., Rainy River Energy Corporation

[Docket Nos. ER01-2636-002, ER00-2177-001]

Take notice that on November 9, 2004, ALLETE, Inc. and Rainy River Energy Corporation filed an updated triennial market power analysis pursuant to Arcadia Power Partners, LLC, 107 FERC ¶ 61,168 (2004).

Comment Date: 5 p.m. eastern time on November 30, 2004.

18. Boston Edison Company

[Docket No. ER02-170-006]

Take notice that, on November 9, 2004, Boston Edison Company (BECo) tendered for filing Substitute Third Revised Rate Schedule No. 167 in compliance with the Commission's orders issued November 22, 2002 in Docket No. ER02-170-002, 101 FERC ¶ 61,218 (2002) and September 21, 2004 in Docket No. EL02-123-003, 108 FERC ¶ 61,276 (2004).

BECo states that copies of the filing were served upon the official service list in the above-captioned proceeding and the affected customers.

Comment Date: 5 p.m. eastern time on November 30, 2004.

19. Reliant Energy Coolwater, Inc., Reliant Energy Ellwood, Inc., Reliant Energy Etiwanda, Inc., Reliant Energy Mandalay, Inc., Reliant Energy Ormond Beach, Inc.

[Docket Nos. ER02-2453-001, ER02-2451-001, ER02-2450-001, ER02-2452-001, ER02-2449-001]

Take notice that on November 9, 2004, Reliant Energy Coolwater, Inc., Reliant Energy Ellwood, Inc., Reliant Energy Etiwanda, Inc., Reliant Energy Mandalay, Inc., and Reliant Energy Ormond Beach, Inc., (Reliant Energy Companies) subsidiaries of Reliant Energy, Inc., filed an updated market study and amendments to their market-based rate tariffs to add the Market Behavior Rules adopted by the Commission in Investigation of Terms and Conditions of Public Utility Market-Based Rate Authorizations, 105 FERC ¶ 61,218 (2003).

Comment Date: 5 p.m. eastern time on November 30, 2004.

20. New England Power Company

[Docket No. ER05-29-001]

Take notice that on November 10, 2004, New England Power Company (NEP) filed an amendment to its October 8, 2004 filing in Docket No. ER05-29-000. The amendment withdrew the Notice of Cancellation for Service Agreement No. 13 filed on October 8, 2004 and submitted a Notice of Cancellation for Original Service Agreement No. 107 between NEP and the Water and Light Department of the Town of Littleton, New Hampshire (Littleton).

NEP states that copies of the filing were served on Littleton and regulators in the State of New Hampshire.

Comment Date: 5 p.m. eastern time on December 1, 2004.

21. Avista Corporation

[Docket No. ER05-200-000]

Take notice that on November 10, 2004, Avista Corporation (Avista) filed a Notice of Termination of Avista's FERC Electric Tariff Original Volume No. 4, Service Agreement No. 139, an agreement between Avista and El Paso Electric Company. Avista requests an effective date of January 31, 2005.

Comment Date: 5 p.m. eastern time on December 1, 2004.

22. El Paso Electric Company

[Docket No. ER05-201-000]

Take notice that on November 10, 2004, El Paso Electric Company (EPE) tendered for filing a Large Generator Interconnection Agreement between EPE and the Public Service Company of New Mexico (PNM) for interconnection of the second unit of PNM's Afton power plant to the EPE transmission system. EPE requests an effective date of November 2, 2004.

Comment Date: 5 p.m. eastern time on December 1, 2004.

23. PECO Energy Company

[Docket No. ER05-202-000]

Take notice that on November 12, 2004, Exelon Corporation, on behalf of its subsidiary PECO Energy Company (PECO), tendered for filing Original Service Agreement No. 1192 under PJM Interconnection L.L.C.'s FERC Electric Tariff, Sixth Revised Volume No. 1, a Construction Agreement between PECO Energy Company and Delmarva Power and Light Company. PECO requests an effective date of June 28, 2004.

Comment Date: 5 p.m. eastern time on December 3, 2004.

24. American Transmission Systems, Incorporated

[Docket No. ER05-203-000]

Take notice that on November 12, 2004, American Transmission Systems, Incorporated (ATSI) filed Service Agreement No. 348 under ATSI's FERC Electric Tariff, Third Revised Volume No. 1, a Construction Agreement with the Village of Seville. ATSI requests an effective date of November 1, 2004.

ATSI states that copies of the filing have been served on the Village of Seville, American Municipal Power-Ohio, Inc., the Midwest ISO, and the public utility commissions of the Ohio and Pennsylvania.

Comment Date: 5 p.m. eastern time on December 3, 2004.

25. Portland General Electric Company

[Docket No. ER05-204-000]

Take notice that on November 12, 2004, Portland General Electric Company (PGE) tendered for filing revised tariff sheets to PGE's FERC Electric Tariff Volume No. 12. PGE states that it is seeking authority to sell Operating Reserves (Spinning and Supplemental) under PGE's Open Access Transmission Tariff to off-system customers. PGE requests an effective date that is no later than January 12, 2005.

Comment Date: 5 p.m. eastern time on December 3, 2004.

26. ISO New England, Inc.

[Docket Nos. RT04-2-006, ER04-116-006, EL01-39-006]

Take notice that on November 12, 2004, ISO New England Inc. (ISO) submitted revisions to NEPOOL Market Rule 1 in compliance with the directive reflected in the Commission's November 3, 2004 order in Docket No. RT04-2-001, et al., to provide for implementation of a Pilot Program to test processes central to the establishment of Virtual Regional Dispatch.

The ISO states that copies of the filing have been served on all NEPOOL Participants, and the Governors and utility regulatory agencies of the New England States.

Comment Date: 5 p.m. eastern time on December 3, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3307 Filed 11-23-04; 8:45 am]

BILLING CODE 6717-01-P